FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
017747N | Tomcar Investment USA, Inc., 8369 North Coral Circle, N. Lauderdale, FL 33068 | November 7, 2004.
015646NF | Universe Freight Brokers, Inc., 3625 NW 82nd Avenue, Suite 401, Miami, FL 33126 | October 30, 2004.
011170NF | Sage Freight Systems Inc., dba Sage Container Lines, 182-30 150th Road, Suite 108, Jamaica, NY 11413 | November 23, 2004.

Sandra L. Kusumoto,
Director, Bureau of Certification and Licensing.

[FR Doc. 05-644 Filed 1-11-05; 8:45 am]

BILLING CODE 6730-01-P